ENVIRONMENTAL PROTECTION AGENCY

[FRL-7876-3]

EPA Science Advisory Board Staff Office; Request for Nominations of Experts for the Arsenic Review Panel

AGENCY: Environmental Protection Agency (EPA).

ACTION: Notice.

SUMMARY: Requesting the nomination of experts for the Science Advisory Board (SAB) Arsenic Review Panel.

DATES: Nominations should be submitted by March 16, 2005, per instructions below.

FOR FURTHER INFORMATION CONTACT: Any member of the public wishing further information regarding this Request for Nominations may contact Ms. Vivian Turner, Designated Federal Officer (DFO), SAB Staff Office, by telephone/voice mail at (202) 343-9697; by fax at (202) 233-0643; or via e-mail at turner.vivian@epa.gov. General information concerning the EPA Science Advisory Board can be found on the EPA SAB Web site at: http://www.epa.gov/sab.

SUPPLEMENTARY INFORMATION: Background: Inorganic arsenic is found naturally in the environment and it is typically present in soil and water at some determinate level. Sources of human exposure to inorganic arsenic include drinking water, diet, air and anthropogenic sources such as wood preservatives and industrial wastes. Additionally, humans are exposed to organic arsenicals when they are used as pesticides (e.g., monomethylarsenic acid and dimethylarsenic acid or cacodylic acid). The EPA is currently completing its draft assessment of potential human health effects associated with arsenic compounds. EPA's Office of Research and Development (ORD) has requested the EPA Science Advisory Board (SAB) to conduct a review of this assessment.

The EPA Science Advisory Board (SAB) was established by 42 U.S.C. 4365 to provide independent scientific and technical advice, consultation, and recommendations to the EPA Administrator on the technical basis for Agency positions and regulations. The SAB and the Federal Insecticide, Fungicide, and Rodenticide Act Scientific Advisory Panel (FIFRA SAP) will establish a panel to conduct a review of the Agency's risk assessment for arsenic. The review panel will be formed from members of the Science Advisory Board, the EPA FIFRA SAP, and other experts as determined to be necessary. This panel will comply with the provisions of the Federal Advisory Committee Act (FACA) and all appropriate SAB procedural policies. Upon completion, the panel's report will be submitted to the SAB for final approval for transmittal to the EPA Administrator.

Availability of the Review Materials: The EPA draft assessment to be reviewed by the SAB Panel will be made available by the Office of Research and Development. For questions and information concerning the review materials, please contact Dr. Reeder Sams, at (919) 541-0661, or sams.reeder@epa.gov.

Request for Nominations: The SAB Staff Office is requesting nominations of recognized experts with one or more of the following areas of expertise, especially with respect to the potential human health effects of arsenic and arsenic compounds: human physiology and exposure; epidemiology; toxicology, including mechanisms of toxicity for cancer; metabolism; pharmacokinetics and modeling; dose-response assessment; analytical chemistry as applied to living organisms and environmental media; risk assessment; and biostatistics.

Process and Deadline for Submitting Nominations: Any interested person or organization may nominate individuals qualified in the areas of expertise described above to serve on the SAB Arsenic Review Panel. Nominations should be submitted in electronic format through the Form for Nominating Individuals to Panels of the EPA Science Advisory Board which can be accessed through a link on the blue navigational bar on the SAB Web site at: http://www.epa.gov/sab. To be considered, all nominations must include the information requested on that form.

Anyone who is unable to submit nominations using this form and any questions concerning any aspects of the nomination process may contact the DFO, as indicated above in this notice. Nominations should be submitted in time to arrive no later than March 16, 2005. Any questions concerning either this process or any other aspects of this notice should be directed to the DFO. The process for forming a SAB panel is described in the Overview of the Panel Formation Process at the Environmental Protection Agency, Science Advisory Board (EPA-SAB-EC-COM-02-010), on the SAB Web site at: http://www.epa.gov/sab/pdf/ec02010.pdf.

From the nominees identified by respondents to this Federal Register notice (termed the “Widecast”), the SAB Staff Office will develop a smaller subset (known as the “Short List”) for more detailed consideration. The Short List will be posted on the SAB Web Site at: http://www.epa.gov/sab, and will include, for each candidate, the nominee's name and biosketch. Public comments on the Short List will be accepted for 21 calendar days. During this comment period, the public will be requested to provide information, analysis or other documentation on nominees that the SAB Staff Office should consider in evaluating candidates for the Panel.

For the SAB, a balanced panel (i.e., committee, subcommittee, or panel) is characterized by inclusion of candidates who possess the necessary domains of knowledge, the relevant scientific perspectives (which, among other factors, can be influenced by work history and affiliation), and the collective breadth of expertise and experience to adequately address the charge. Public responses to the Short List candidates will be considered in the selection of the panel, along with information provided by candidates and information gathered by SAB Staff independently on the background of each candidate (e.g., financial disclosure information and computer searches to evaluate a nominee's prior involvement with the topic under review). Specific criteria to be used in evaluation of an individual Panel member include: (a) Scientific and/or technical expertise, knowledge, and experience (primary factors); (b) absence of financial conflicts of interest; (c) scientific credibility and impartiality; (d) availability and willingness to serve; and (e) ability to work constructively and effectively in committees.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

Dated: February 14, 2005.
Vanessa T. Vu,
Director, EPA Science Advisory Board Staff Office.

[FR Doc. 05-3449 Filed 2-22-05; 8:45 am]

BILLING CODE 6560-50-P